INTERNATIONAL TRADE COMMISSION

[Investigation No. 332-572]

Generalized System of Preferences: Possible Modifications, 2018 Review

AGENCY: United States International Trade Commission.

ACTION: Notice of institution of investigation and scheduling of public hearing.

SUMMARY: Following receipt of a request on June 4, 2019, from the United States Trade Representative (USTR), the U.S. International Trade Commission (Commission) instituted investigation No. 332-572, Generalized System of Preferences: Possible Modifications, 2018 Review, for the purpose of providing advice and information relating to the possible removal of articles, waiver of competitive need limitations, and redesignation of articles.

DATES:

June 18, 2019: Deadline for filing requests to appear at the public hearing.

June 18, 2019: Deadline for filing pre-hearing briefs and statements.

July 2, 2019: Public hearing.

July 8, 2019: Deadline for filing post-hearing briefs and statements.

July 8, 2019: Deadline for filing all other written submissions.

September 9, 2019: Transmittal of Commission report to the USTR.

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at https://edis.usitc.gov.

FOR FURTHER INFORMATION CONTACT: Information specific to this investigation may be obtained from Mark Brininstool, Project Leader, Office of Industries (202-708-1395 or mark.brininstool@usitc.gov), Sharon Ford, Deputy Project Leader, Office of Industries (202-205-3084 or sharon.ford@usitc.gov), or Marin Weaver, Technical Advisor, Office of Industries (202-205-3461 or marin.weaver@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

Background: In his letter, the USTR requested the advice and information described below.

(1) Advice concerning the probable economic effect of removal of certain articles from certain countries from eligibility for duty-free treatment. The USTR notified the Commission that two articles from Pakistan are being considered for removal from eligibility for duty-free treatment under the GSP program. Under authority delegated by the President, pursuant to section 332(g) of the Tariff Act of 1930, with respect to the article listed in table A of the annex to the USTR request letter, the USTR requested that the Commission provide its advice as to the probable economic effect of the removal from eligibility for duty-free treatment under the GSP program for these articles from Pakistan on total U.S. imports, on U.S. industries producing like or directly competitive articles, and on U.S. consumers (see table A below).

Table A—Petitions Submitted To Remove Duty-Free Status From The Listed Countries for a Product on the List of Eligible Articles for the Generalized System of Preferences
HTS subheading | Brief description | Country
3907.61.00 | Polyethylene terephthalate, having a viscosity number of 78 ml/g or higher | Pakistan.
3907.69.00 | Polyethylene terephthalate, having a viscosity number less than 78 ml/g | Pakistan.

(2) Advice concerning the waiver of certain competitive need limitations. Under authority delegated by the President, pursuant to section 332(g) of the Tariff Act of 1930, and in accordance with section 503(d)(1)(A) of the 1974 Act, the USTR requested that the Commission provide advice on whether any industry in the United States is likely to be adversely affected by a waiver of the competitive need limitations (CNLs) specified in section 503(c)(2)(A) of the 1974 Act for the countries and articles specified in table B of the annex to the request letter (see table B below). The USTR also requested that the Commission provide its advice as to the probable economic effect on total U.S. imports, as well as on consumers, of the requested waivers. With respect to the competitive need limitation in section 503(c)(2)(A)(i)(I) of the 1974 Act, the USTR requested that the Commission use the dollar value limit of $185 million. Further, pursuant to section 332(g) of the Tariff Act of 1930 and in accordance with section 503(c)(2)(E) of the 1974 Act, the USTR requested that the Commission provide its advice with respect to whether a like or directly competitive article was produced in the United States in any of the preceding three calendar years.

Table B—Petitions Submitted for Waiver of GSP CNLs
HTS subheading | Brief description | Country
3823.11.00 | Stearic acid | Indonesia.
9001.50.00 | Spectacle lenses of materials other than glass, unmounted | Thailand.

(3) Advice concerning redesignations. The USTR notified the Commission that four articles are being considered for redesignation as eligible articles for purposes of the GSP program. Under authority delegated by the President, pursuant to section 332(g) of the Tariff Act of 1930, the USTR requested that the Commission provide its advice as to the probable economic effect on total U.S. imports, on U.S. industries producing like or directly competitive articles, and on U.S. consumers of the elimination of U.S. import duties on the articles in table C of the annex to the USTR request letter from the listed beneficiary countries (see table C below). Further, pursuant to section 332(g) of the Tariff Act of 1930 and in accordance with section 503(c)(2)(E) of the 1974 Act, the USTR requested that the Commission provide its advice as to whether a like or directly competitive article was produced in the United States in any of the preceding three calendar years.

Table C—Petitions Submitted for Redesignation of Excluded Items From the Listed Countries
HTS subheading | Brief description | Country
0603.13.00 | Orchids, fresh cut | Thailand.
4412.10.05 | Plywood, veneered panels and similar laminated wood, of bamboo | Indonesia.
4412.31.4155 | Plywood sheets n/o 6mm thick, with specified tropical wood outer ply, with face ply nesoi, not surface covered beyond clear/transparent | Indonesia.
4418.73.40 | Assembled flooring panels of bamboo, other than for mosaic, multilayer, having a face ply more than 6mm in thickness | Indonesia.

Time for reporting, HTS detail, portions of report to be classified. As requested by the USTR, the Commission will provide the requested advice and information by September 7, 2019. The USTR asked that the Commission issue, as soon as possible thereafter, a public version of the report containing only the unclassified information, with any confidential business information deleted. As requested, the Commission will provide its probable economic effect advice and statistics (profile of the U.S. industry and market and U.S. import and export data) and any other relevant information or advice separately and individually for each U.S. Harmonized Tariff Schedule subheading for all products subject to the request. The USTR indicated that those sections of the Commission's report and working papers that contain the Commission's advice and assessment of probable economic effects on domestic industries, on U.S. imports, and on U.S. consumers, will be classified as “confidential.” The USTR also stated that his office considers the Commission's report to be an inter-agency memorandum that will contain pre-decisional advice and be subject to the deliberative process privilege.

Public Hearing: A public hearing in connection with this investigation will be held at the U.S. International Trade Commission Building, 500 E Street SW, Washington, DC, beginning at 9:30 a.m. on July 2, 2019. Requests to appear at the public hearing should be filed with the Secretary no later than 5:15 p.m., June 18, 2019. All pre-hearing briefs and statements should be filed no later than 5:15 p.m., June 18, 2019; and all post-hearing briefs and statements should be filed no later than 5:15 p.m., July 8, 2019. All requests to appear, and pre- and post-hearing briefs and statements should be filed in accordance with the requirements of the “written submissions” section below.

Written Submissions: In lieu of or in addition to appearing at the hearing, interested parties are invited to file written submissions concerning this investigation. All written submissions should be addressed to the Secretary, and should be received not later than 5:15 p.m., July 8, 2019. All written submissions must conform to the provisions of § 201.8 of the Commission's Rules of Practice and Procedure (19 CFR 201.8). Section 201.8 and the Commission's Handbook on Filing Procedures (https://www.usitc.gov/documents/handbook_on_filing_procedures.pdf) requires that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Office of the Secretary, Docket Services Division (202-205-1802).

Confidential Business Information: Any submissions that contain confidential business information must also conform with the requirements of § 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

The Commission may include some or all of the confidential business information submitted in the course of this investigation in the report it sends to the USTR. Additionally, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries of Written Submissions: The Commission intends to publish summaries of the positions of interested persons. Persons wishing to have a summary of their position included in the report should include a summary with their written submission and should specifically state the summary is intended for that purpose, and it should be titled as such. The summary may not exceed 500 words, should be in MSWord format or a format that can be easily converted to MSWord, and should not include any confidential business information. The summary will be included in the report as provided if it meets these requirements and is germane to the subject matter of the investigation. The Commission will identify the name of the organization furnishing the summary and will include a link to the Commission's Electronic Document Information System (EDIS) where the full written submission can be found.

By order of the Commission.
Issued: June 7, 2019.
Katherine Hiner,
Supervisory Attorney.

[FR Doc. 2019-12421 Filed 6-10-19; 8:45 am]

BILLING CODE 7020-02-P